DEPARTMENT OF DEFENSE

Office of the Secretary

[Docket ID: DoD-2021-OS-0114]

Submission for OMB Review; Comment Request

AGENCY: Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by February 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: On-Site Installation Evaluations; OMB Control Number 0704-0610.

Type of Request: Revision

Number of Respondents: 4,100.

Responses per Respondent: 1.

Annual Responses: 4,100.

Average Burden per Response: 43 minutes.

Annual Burden Hours: 2,938 hours.

Needs and Uses: These information collections continue to support a high-visibility requirement directed in Secretary of Defense Memorandum, “Immediate Actions to Counter Sexual Assault and Harassment and the Establishment of a 90-Day Independent Review Commission on Sexual Assault in the Military,” February 26, 2021. Immediate Action 2 directs the Under Secretary of Defense for Personnel and Readiness (USD(P&R)) to develop a plan of action and milestones to conduct high risk installation evaluations. Memorandum “Plan of Action and Milestones for High Risk Installation Evaluations,” March 30, 2021 USD(P&R) approved the plan of action and milestones. The end result of the data collection will be a series of ratings for each installation to characterize the maturity of prevention at each installation (i.e., how consistently prevention is prioritized, how consistently people are prepared to conduct needed prevention, and how consistently prevention is done well).

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: January 11, 2022.
Aaron T. Siegel,
Alternate OSD Federal Register Liaison Officer, Department of Defense.

[FR Doc. 2022-00709 Filed 1-13-22; 8:45 am]

BILLING CODE 5001-06-P